DEPARTMENT OF HEALTH AND HUMAN SERVICES

Administration for Children and Families

Administration on Developmental Disabilities; Statement of Organization, Functions, and Delegations of Authority

AGENCY: Administration for Children and Families, HHS.

ACTION: Notice.

SUMMARY: Statement of Organizations, Functions, and Delegations of Authority The Administration for Children and Families has reorganized the Administration on Developmental Disabilities. This reorganization includes the organization and its substructure components as listed in this document. This reorganization eliminates the Office of Operations and Discretionary Grants, renames the Office of Programs to the Office of Program Support, and establishes a new office, Office of Innovation. The notice also serves to re-establish the Deputy Commissioner position.

FOR FURTHER INFORMATION CONTACT: Sharon Lewis, Administration on Developmental Disabilities Commissioner, Administration for Children and Families, 200 Independence Avenue, SW., Washington, DC 20201, 202-690-6590.

This notice amends Part K of the Statement of Mission, Organization, Functions, and Delegations of Authority of the Department of Health and Human Services (HHS), Administration for Children and Families (ACF) as follows: Chapter KC, the Administration on Developmental Disabilities (ADD) (69 FR 56226-27), as last amended September 20, 2004.

I. Under Chapter KC, Administration on Developmental Disabilities, delete KC.10 Organization in its entirety and replace with the following:

KC.10 ORGANIZATION. The Administration on Developmental Disabilities is headed by a Commissioner who reports directly to the Assistant Secretary for Children and Families. The Administration on Developmental Disabilities consists of:

The Office of the Commissioner (KCA)

The Office of Program Support (KCB)

The Office of Innovation (KCC)

II. Under Chapter KC, Administration on Developmental Disabilities, delete KC.20 Functions, in its entirety and replace with the following:

KC.20 FUNCTIONS. A. The Office of the Commissioner provides executive leadership and management strategies for all components of the Administration on Developmental Disabilities, and serves as the principal advisor to the Assistant Secretary for Children and Families, the Secretary, and other elements of the Department for individuals with developmental disabilities and their families. The Office plans, coordinates and controls ADD policy, planning and management activities which include the development of legislative proposals, regulations and policy issuances for ADD. The Office provides executive direction, leadership, and management strategy to ADD's components and establishes goals and objectives for ADD programs. The Office manages the formulation and execution of the program and operating budgets; provides administrative, personnel and information systems support services; serves as the ADD Executive Secretariat controlling the flow of correspondence; and coordinates with appropriate ACF components in implementing administrative requirements and procedures. The Office also initiates, executes and supports the development of interagency, intergovernmental and public-private sector agreements, committees, task forces, commissions or joint-funding efforts as appropriate.

In coordination with the ACF Office of Public Affairs, the Office of the Commissioner develops a strategy for increasing public awareness of the needs of individuals with developmental disabilities, their families, and programs designed to address them. The Deputy Commissioner assists the Commissioner in carrying out the responsibilities of the Office.

B. The Office of Program Support is responsible for the coordination, oversight, management and evaluation of the State Councils on Developmental Disabilities, the Protection and Advocacy Systems, and the University Centers for Excellence in Developmental Disabilities grant programs as authorized by the Developmental Disabilities Assistance and Bill of Rights Act (DD Act). The Office is responsible for the development of procedures and performance standards that ensure compliance with the DD Act and that improve the outcomes of the programs in increasing the independence, productivity and community inclusion of persons with developmental disabilities as well as program outreach activities. The Office conducts routine and special analyses of state plans of State Councils on Developmental Disabilities, statement of goals and objectives of State Protection and Advocacy Systems, and five-year plans of the University Centers for Excellence in Developmental Disabilities, to assure consistent application of ADD program goals and objectives.

In addition, the Office of Program Support provides program development services, develops and initiates guidelines, policy issuances and actions with team participation by other components of ADD, ACF, HHS and other government agencies to fulfill the mission and goals of the DD Act, as amended. The Office ensures the dissemination of grantee results, including project results and information produced by ADD grantees, by coordinating with the Office of Innovation and the Office of the Commissioner for information sharing.

The Office of Program Support manages cross-cutting initiatives with other components of ADD, ACF, HHS and other government agencies to promote and integrate the grant programs into cross-agency and cross-disability efforts.

C. The Office of Innovation is responsible for the coordination, oversight, management and evaluation of the Projects of National Significance, Family Support, and the Direct Support Workers grant programs as authorized by the Developmental Disabilities Assistance and Bill of Rights Act (DD Act). The Office is responsible for the development of procedures that ensure compliance with the DD Act and that improve the outcomes of the programs, grants and contracts in increasing the independence, productivity and community inclusion of persons with developmental disabilities. The Office also ensures the dissemination of project results and information produced by ADD grantees.

The Office of Innovation also administers two formula grants under the Help America Vote Act (State and Local Grants for Election Assistance for Individuals with Disabilities and Grants to Protection and Advocacy Systems) that improve accessibility for individuals with the full range of disabilities, including the blind and visually impaired, to polling places, including the path of travel, entrances, exits and voting facilities. The Office also administers a training and technical assistance grant program under the Help America Vote Act that provides technical assistance to Protection and Advocacy Systems in their mission to promote the full participation in the electoral process for individuals with the full range of disabilities, including registering to vote, casting vote, and accessing polling places.

The Office of Innovation originates and manages cross-cutting research, demonstration and evaluation initiatives with other components of ADD, ACF, HHS and other government agencies. The Office also coordinates information sharing and other activities related to national Developmental Disability program trends with other ACF programs and HHS agencies and studies, reviews and analyzes other federal programs providing services applicable to persons with developmental disabilities for the purpose of integrating and coordinating program efforts.

Dated: October 6, 2010.
David A. Hansell,
Acting Assistant Secretary for Children and Families.

[FR Doc. 2010-25919 Filed 10-13-10; 8:45 am]

BILLING CODE 4184-38-P